DEPARTMENT OF COMMERCE

International Trade Administration

[C-533-884, C-570-081, C-549-838]

Glycine From India, the People's Republic of China, and Thailand: Initiation of Countervailing Duty Investigations

AGENCY: Enforcement and Compliance, International Trade Administration, Department of Commerce.

DATES: Applicable April 17, 2018.

FOR FURTHER INFORMATION CONTACT: Tyler Weinhold at (202) 482-1121 (the People's Republic of China (China)), Chelsey Simonovich at (202) 482-1979 (India), and George Ayache at (202) 482-2623 (Thailand), AD/CVD Operations, Enforcement and Compliance, International Trade Administration, U.S. Department of Commerce, 1401 Constitution Avenue NW, Washington, DC 20230.

SUPPLEMENTARY INFORMATION:

The Petitions

On March 28, 2018, the U.S. Department of Commerce (Commerce) received countervailing duty (CVD) Petitions concerning imports of glycine from China, India, and Thailand, and antidumping duty (AD) Petitions concerning imports of glycine from India, Japan, and Thailand filed in proper form on behalf of GEO Specialty Chemicals, Inc. and Chattem Chemicals, Inc. (the petitioners).¹ The petitioners are domestic producers of glycine.²

¹ See Petitioners' letter, “Glycine from the People's Republic of China, India, Japan and Thailand: Petitions for the Imposition of Antidumping and Countervailing Duties,” dated March 28, 2018 (the Petitions). For the purposes of the instant notice, all references to `the Petitions,' herein, refer specifically to the CVD Petitions.

² See Volume I of the Petitions, at 4-5.

On April 2, 2018, Commerce requested supplemental information pertaining to certain areas of the Petitions.³ The petitioners filed responses to these requests on April 4 and 5, 2018.⁴ On April 10, 2018, the petitioners submitted certain revisions to the scope.⁵

³ See Commerce's letters, “Petitions for the Imposition of Antidumping Duties on Imports of Glycine from India, Japan, and Thailand, and Countervailing Duties on Imports from the People's Republic of China, India, and Thailand: Supplemental Questions” (General Issues Supplemental Questionnaire); “Petition for the Imposition of Countervailing Duties on Imports of Glycine from the People's Republic of China: Supplemental Questions;” “Petition for the Imposition of Countervailing Duties on Imports of Glycine from India: Supplemental Questions;” and “Petition for the Imposition of Countervailing Duties on Imports of Glycine from Thailand: Supplemental Questions.” All of these documents are dated April 2, 2018.

⁴ See Petitioners' Letters, “Petitions for the Imposition of Antidumping Duties on Imports of Glycine from India, Japan and Thailand, and Countervailing Duties on Imports from the People's Republic of China, India and Thailand: Responses to Supplemental Questions,” dated April 4, 2018 (General Issues Supplement); “Glycine from the People's Republic of China: Response to Supplemental Questions,” dated April 5, 2018 (China CVD Supplement); ” Glycine from India: Responses to Supplemental Questions,” dated April 5, 2018 (India CVD Supplement); and “Glycine from Thailand: Response to Supplemental Questions,” dated April 4, 2018 (Thailand CVD Supplement).

⁵ See Memorandum, “Phone Call with Counsel to the Petitioners,” dated April 10, 2018; see also Petitioners' Letter, “Petitions for the Imposition of Antidumping Duties on Imports of Glycine from India, Japan and Thailand, and Countervailing Duties on Imports from the People's Republic of China, India and Thailand: Revised Scope,” dated April 10, 2018 (Revised Scope Submission), at 1-2.

In accordance with section 702(b)(1) of the Tariff Act of 1930, as amended (the Act), the petitioners allege that the Government of China (GOC), the Government of India (GOI), and the Royal Thai Government (RTG) are providing countervailable subsidies, within the meaning of sections 701 and 771(5) of the Act, to producers of glycine in China, India, and Thailand, respectively, and imports of such products are materially injuring, or threatening material injury to, the domestic glycine industry in the United States. Consistent with section 702(b)(1) of the Act and 19 CFR 351.202(b), for those alleged programs on which we are initiating a CVD investigation, the Petitions are accompanied by information reasonably available to the petitioners supporting their allegations.

Commerce finds that the petitioners filed the Petitions on behalf of the domestic industry because the petitioners are interested parties as defined in section 771(9)(C) of the Act. Commerce also finds that the petitioners demonstrated sufficient industry support with respect to the initiation of the CVD investigations that the petitioners are requesting.⁶

⁶ See “Determination of Industry Support for the Petitions” section, infra.

Period of Investigation

Because the Petitions were filed on March 28, 2018, the period of investigation for each of the investigations is January 1, 2017, through December 31, 2017.⁷

⁷ See 19 CFR 351.204(b)(2).

Scope of the Investigations

The product covered by these investigations is glycine from China, India, and Thailand. For a full description of the scope of these investigations, see the Appendix to this notice.

Comments on Scope of the Investigations

During our review of the Petitions, Commerce issued questions to, and received responses from, the petitioners pertaining to the proposed scope to ensure that the scope language in the Petitions is an accurate reflection of the product for which the domestic industry is seeking relief.⁸ As a result of these exchanges, the scope of the Petitions was modified to clarify the description of merchandise covered by the Petitions. The description of the merchandise covered by this initiation, as described in the Appendix to this notice, reflects these clarifications.

⁸ See General Issues Supplemental Questionnaire, at 3-5 and General Issues Supplement, at 3-8; see also Revised Scope Submission.

As discussed in the Preamble to Commerce's regulations, we are setting aside a period for interested parties to raise issues regarding product coverage (scope).⁹ Commerce will consider all comments received from interested parties and, if necessary, will consult with interested parties prior to the issuance of the preliminary determinations. If scope comments include factual information,¹⁰ all such factual information should be limited to public information. To facilitate preparation of its questionnaires, Commerce requests that all interested parties submit such comments by 5:00 p.m. Eastern Time (ET) on May 7, 2018, which is 20 calendar days from the signature date of this notice. Any rebuttal comments, which may include factual information, must be filed by 5:00 p.m. ET on May 17, 2018, which is 10 calendar days from the initial comments deadline.¹¹

⁹ See Antidumping Duties; Countervailing Duties, Final Rule, 62 FR 27296, 27323 (May 19, 1997) (Preamble).

¹⁰ See 19 CFR 351.102(b)(21) (defining “factual information”).

¹¹ See 19 CFR 351.303(b).

Commerce requests that any factual information the parties consider relevant to the scope of the investigations be submitted during this time period. However, if a party subsequently finds that additional factual information pertaining to the scope of the investigations may be relevant, the party may contact Commerce and request permission to submit the additional information. All such comments must be filed on the records of each of the concurrent AD and CVD investigations, in accordance with the filing requirements, discussed immediately below.

Filing Requirements

All submissions to Commerce must be filed electronically using Enforcement and Compliance's Antidumping Duty and Countervailing Duty Centralized Electronic Service System (ACCESS).¹² An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹² See Antidumping and Countervailing Duty Proceedings: Electronic Filing Procedures; Administrative Protective Order Procedures, 76 FR 39263 (July 6, 2011). See also Enforcement and Compliance: Change of Electronic Filing System Name, 79 FR 69046 (November 20, 2014) for details of Commerce's electronic filing requirements, effective August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the Governments of China, India and Thailand of the receipt of the Petitions, and provided them the opportunity for consultations with respect to the CVD Petitions.¹³ Commerce held consultations with the Governments of Thailand and India on April 5, 2018,¹⁴ and April 12, 2018, respectively.¹⁵ As the Government of China did not request consultations prior to the initiation of this investigation, none were held.

¹³ See Letter from Kathleen Marksberry, Program Manager, Office VIII, to the Embassy of China, “Countervailing Duty Petition on Glycine from the People's Republic of China: Invitation for Consultations,” dated March 28, 2018; Letter from Erin Kearney, Program Manager, Office VI, to the Embassy of India, “Countervailing Duty Petition on Glycine from India: Invitation for Consultations to Discuss the Countervailing Duty Petition,” dated March 29, 2018; and Letter from Kathleen Marksberry, Program Manager, Office VIII, to the Royal Thai Embassy, “Countervailing Duty Petition on Glycine from Thailand: Invitation for Consultations,” dated March 28, 2018.

¹⁴ See Memorandum, “Countervailing Duty Petition on Glycine from Thailand: Consultations with Officials from the Royal Thai Government,” dated April 5, 2018.

¹⁵ See Memorandum, “Countervailing Duty Petition on Glycine from India: Consultations with Officials from the Government of India,” dated April 13, 2018.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁶ they do so for different purposes and pursuant to a separate and distinct authority. In addition, Commerce's determination is subject to limitations of time and information. Although this may result in different definitions of the like product, such differences do not render the decision of either agency contrary to law.¹⁷

¹⁶ See section 771(10) of the Act.

¹⁷ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁸ Based on our analysis of the information submitted on the record, we have determined that glycine, as defined in the scope, constitutes a single domestic like product, and we have analyzed industry support in terms of that domestic like product.¹⁹

¹⁸ See Volume I of the Petitions, at 7.

¹⁹ For a discussion of the domestic like product analysis as applied to these cases and information regarding industry support, see Countervailing Duty Investigation Initiation Checklist: Glycine from the People's Republic of China (China CVD Initiation Checklist), at Attachment II, Analysis of Industry Support for the Antidumping and Countervailing Duty Petition Covering Glycine from the People's Republic of China, India, Japan, and Thailand (Attachment II); see also Countervailing Duty Investigation Initiation Checklist: Glycine from India (India CVD Initiation Checklist), at Attachment II; see also Countervailing Duty Investigation Initiation Checklist: Glycine from Thailand (Thailand CVD Initiation Checklist), at Attachment II. These checklists are dated concurrently with this notice and on file electronically via ACCESS. Access to documents filed via ACCESS is also available in the Central Records Unit, Room B8024 of the main Department of Commerce building.

In determining whether the petitioners have standing under section 702(c)(4)(A) of the Act, we considered the industry support data contained in the Petitions with reference to the domestic like product as defined in the “Scope of the Investigations,” in the Appendix to this notice. To establish industry support, the petitioners provided their own production of the domestic like product in 2017.²⁰ The petitioners state that there are no other known producers of glycine in the United States; therefore, the Petitions are supported by 100 percent of the U.S. industry.²¹

²⁰ See Volume I of the Petitions, at 2.

²¹ Id., at 6; see also General Issues Supplement, at 8 and Exhibit GEN-S4. For further discussion, see China CVD Initiation Checklist, at Attachment II; India CVD Initiation Checklist, at Attachment II; and Thailand CVD Initiation Checklist, at Attachment II.

Our review of the data provided in the Petitions, the General Issues Supplement, and other information readily available to Commerce indicates that the petitioners have established industry support for the Petitions.²² First, the Petitions established support from domestic producers (or workers) accounting for more than 50 percent of the total production of the domestic like product and, as such, Commerce is not required to take further action in order to evaluate industry support (e.g., polling).²³ Second, the domestic producers (or workers) have met the statutory criteria for industry support under section 702(c)(4)(A)(i) of the Act because the domestic producers (or workers) who support the Petitions account for at least 25 percent of the total production of the domestic like product.²⁴ Finally, the domestic producers (or workers) have met the statutory criteria for industry support under section 702(c)(4)(A)(ii) of the Act because the domestic producers (or workers) who support the Petitions account for more than 50 percent of the production of the domestic like product produced by that portion of the industry expressing support for, or opposition to, the Petitions.²⁵ Accordingly, Commerce determines that the Petitions were filed on behalf of the domestic industry within the meaning of section 702(b)(1) of the Act.

²² Id.

²³ Id.; see also section 702(c)(4)(D) of the Act.

²⁴ See China CVD Initiation Checklist, at Attachment II; India CVD Initiation Checklist, at Attachment II; and Thailand CVD Initiation Checklist, at Attachment II.

²⁵ Id.

Commerce finds that the petitioners filed the Petitions on behalf of the domestic industry because they are interested parties as defined in section 771(9)(C) of the Act, and they have demonstrated sufficient industry support with respect to the CVD investigations that they are requesting that Commerce initiate.²⁶

²⁶ Id.

Injury Test

Because China, India, and Thailand are “Subsidies Agreement Countries” within the meaning of section 701(b) of the Act, section 701(a)(2) of the Act applies to these investigations. Accordingly, the ITC must determine whether imports of the subject merchandise from China, India, and Thailand materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioners allege that subject imports exceed the negligibility threshold provided for under section 771(24)(A) of the Act.²⁷ In CVD petitions, section 771(24)(B) of the Act provides that imports of subject merchandise from developing and least developed countries must exceed the negligibility threshold of four percent. The petitioners also demonstrate that subject imports from India and Thailand, which have been designated as least developed and developing countries under sections 771(36)(A) and 771(36)(B) of the Act, respectively, exceed the negligibility threshold of four percent.²⁸

²⁷ See Volume I of the Petitions, at 38-39; see also General Issues Supplement, at 8 and Exhibit GEN-S5.

²⁸ Id.

The petitioners contend that the industry's injured condition is illustrated by a significant and increasing volume of subject imports, reduced market share, underselling and price depression or suppression, decline in the domestic industry's shipments, production, and capacity utilization, decline in the domestic industry's financial performance, and lost sales and revenues.²⁹ We have assessed the allegations and supporting evidence regarding material injury, threat of material injury, causation, as well as cumulation, and we have determined that these allegations are properly supported by adequate evidence, and meet the statutory requirements for initiation.³⁰

²⁹ Id. at 1-3, 33-49 and Exhibits GEN-2 and GEN-4 through GEN-6; see also General Issues Supplement, at 1, 8-9 and Exhibits GEN-S1 and GEN-S5.

³⁰ See China CVD Initiation Checklist, at Attachment III, Analysis of Allegations and Evidence of Material Injury and Causation for the Antidumping and Countervailing Duty Petition Covering Glycine from the People's Republic of China, India, Japan, and Thailand (Attachment III); see also India CVD Initiation Checklist, at Attachment III; see also Thailand CVD Initiation, at Attachment III.

Initiation of CVD Investigations

Based on the examination of the Petitions, we find that the Petitions meet the requirements of section 702 of the Act. Therefore, we are initiating CVD investigations to determine whether imports of glycine from China, India, and Thailand benefit from countervailable subsidies conferred by the GOC, GOI, and RTG, respectively. In accordance with section 703(b)(1) of the Act and 19 CFR 351.205(b)(1), unless postponed, we will make our preliminary determinations no later than 65 days after the date of this initiation.

China

Based on our review of the Petition, we find that there is sufficient information to initiate a CVD investigation on 21 of the 22 alleged subsidy programs. For a full discussion of the basis for our decision to initiate on each program, see China CVD Initiation Checklist. A public version of the initiation checklist for this investigation is available on ACCESS.

India

Based on our review of the Petition, we find that there is sufficient information to initiate a CVD investigation on 38 of the 40 alleged subsidy programs.³¹ For a full discussion of the basis for our decision to initiate on each program, see India CVD Initiation Checklist. A public version of the initiation checklist for this investigation is available on ACCESS.

³¹ See India CVD Initiation Checklist for details on initiated sub-programs.

Thailand

Based on our review of the Petition, we find that there is sufficient information to initiate a CVD investigation on all ten alleged subsidy programs. For a full discussion of the basis for our decision to initiate on each program, see Thailand CVD Initiation Checklist. A public version of the initiation checklist for this investigation is available on ACCESS.

Respondent Selection

In the Petitions, the petitioners named 29 companies in China,³² ten companies in India,³³ and one company in Thailand,³⁴ as producers/exporters of glycine. Commerce intends to follow its standard practice in CVD investigations and calculate company-specific subsidy rates in these investigations. With respect to China and India, in the event Commerce determines that the number of companies is large and it cannot individually examine each company based upon Commerce's resources, where appropriate, Commerce intends to select mandatory respondents based on U.S. Customs and Border Protection (CBP) data for U.S. imports of glycine from China and India during the POI under the appropriate Harmonized Tariff Schedule of the United States numbers listed in the “Scope of the Investigations,” in the Appendix.

³² See Volume II of the Petitions, at Exhibit CC1; see also China CVD Supplement, at 18-19.

³³ See Volume I of the Petitions, at 24-26.

³⁴ Id. at 28.

On April 9 and 10, 2018, Commerce released CBP data from China and India, respectively, under Administrative Protective Order (APO) to all parties with access to information protected by APO and indicated that interested parties wishing to comment regarding the CBP data and respondent selection must do so within three business days of the publication date of the notice of initiation of these CVD investigations.³⁵ Commerce will not accept rebuttal comments regarding the CBP data or respondent selection. Interested parties must submit applications for disclosure under APO in accordance with 19 CFR 351.305(b). Instructions for filing such applications may be found on the Commerce's website at http://enforcement.trade.gov/apo.

³⁵ See Memorandum, “Glycine from the People's Republic of China Countervailing Duty Petition: Release of Customs Data from U.S. Customs and Border Protection,” dated April 9, 2018; and Memorandum, “Glycine from India Countervailing Duty Petition: Release of Customs Data from U.S. Customs and Border Protection,” dated April 10, 2018.

Although Commerce normally relies on import data from CBP to determine whether to select a limited number of producers/exporters for individual examination in CVD investigations, the petitioners identified only one company as a producer/exporter of glycine in Thailand, Newtrend Food Ingredient (Thailand) Co., Ltd., and the petitioners provided information from independent sources as support.³⁶ Furthermore, we currently know of no additional producers/exporters of subject merchandise from Thailand. Accordingly, Commerce intends to examine all known producers/exporters in the Thailand CVD investigation (i.e., Newtrend Food Ingredient (Thailand) Co., Ltd.). We invite interested parties to comment on this issue. Parties wishing to comment on respondent selection for Thailand must do so within three business days of the publication of this notice.

³⁶ See Volume I of the Petitions, at Exhibit GEN-6; see also General Issues Supplement, at 2 and Exhibit GEN-S2.

All respondent selection comments must be filed electronically using ACCESS. An electronically filed document must be received successfully, in its entirety, by Commerce's electronic records system, ACCESS, no later than 5:00 p.m. ET on the date noted above. We intend to make our decisions regarding respondent selection within 20 days of publication of this notice.

Distribution of Copies of the Petitions

In accordance with section 702(b)(4)(A)(i) of the Act and 19 CFR 351.202(f), copies of the public versions of the Petitions have been provided to the GOC, GOI, and RTG via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of glycine from China, India, and Thailand are materially injuring, or threatening material injury to, a U.S. industry.³⁷ A negative ITC determination for any country will result in the investigation being terminated with respect to that country.³⁸ Otherwise, the investigations will proceed according to statutory and regulatory time limits.

³⁷ See section 703(a)(2) of the Act.

³⁸ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Any party, when submitting factual information, must specify under which subsection of 19 CFR 351.102(b)(21) the information is being submitted ³⁹ and, if the information is submitted to rebut, clarify, or correct factual information already on the record, to provide an explanation identifying the information already on the record that the factual information seeks to rebut, clarify, or correct.⁴⁰ Time limits for the submission of factual information are addressed in 19 CFR 351.301, which provides specific time limits based on the type of factual information being submitted. Interested parties should review the regulations prior to submitting factual information in these investigations.

³⁹ See 19 CFR 351.301(b).

⁴⁰ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴¹ Parties must use the certification formats provided in 19 CFR 351.303(g).⁴² Commerce intends to reject factual submissions if the submitting party does not comply with the applicable certification requirements.

⁴¹ See section 782(b) of the Act.

⁴² See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act and 19 CFR 351.203(c).

Dated: April 17, 2018.
Gary Taverman,
Deputy Assistant Secretary for Antidumping and Countervailing Duty Operations, performing the non-exclusive functions and duties of the Assistant Secretary for Enforcement and Compliance.

Appendix

Scope of the Investigations

The merchandise covered by these investigations is glycine at any purity level or grade. This includes glycine of all purity levels, which covers all forms of crude or technical glycine including, but not limited to, sodium glycinate, glycine slurry and any other forms of amino acetic acid or glycine. Subject merchandise also includes glycine and precursors of dried crystalline glycine that are processed in a third country, including, but not limited to, refining or any other processing that would not otherwise remove the merchandise from the scope of the investigations if performed in the country of manufacture of the in-scope glycine or precursors of dried crystalline glycine. Glycine has the Chemical Abstracts Service (CAS) registry number of 56-40-6. Glycine and glycine slurry are classified under Harmonized Tariff Schedule of the United States (HTSUS) subheading 2922.49.4300. Sodium glycinate is classified in the HTSUS under 2922.49.8000. While the HTSUS subheadings and CAS registry number are provided for convenience and customs purposes, the written description of the scope of these investigations is dispositive.

[FR Doc. 2018-08665 Filed 4-24-18; 8:45 am]

BILLING CODE 3510-DS-P